DEPARTMENT OF ENERGY

Federal Energy Regulatory Commission

Combined Notice of Filings #1

Take notice that the Commission received the following exempt wholesale generator filings:

Docket Numbers: EG17-116-000.

Applicants: Horse Hollow Wind IV, LLC.

Description: Notice of Self-Certification of Exempt Wholesale Generator Status of Horse Hollow Wind IV, LLC.

Filed Date: 6/19/17.

Accession Number: 20170619-5179.

Comments Due: 5 p.m. ET 7/10/17.

Docket Numbers: EG17-117-000.

Applicants: Horse Hollow Wind II, LLC.

Description: Notice of Self-Certification of Exempt Wholesale Generator Status of Horse Hollow Wind II, LLC.

Filed Date: 6/19/17.

Accession Number: 20170619-5183.

Comments Due: 5 p.m. ET 7/10/17.

Docket Numbers: EG17-118-000.

Applicants: CA Flats Solar 130, LLC.

Description: Notice of Self-Certification of Exempt Wholesale Generator Status of CA Flats Solar 130, LLC.

Filed Date: 6/20/17.

Accession Number: 20170620-5034.

Comments Due: 5 p.m. ET 7/11/17.

Take notice that the Commission received the following electric rate filings:

Docket Numbers: ER11-4450-001; ER11-4449-001.

Applicants: Starion Energy NY, Inc., Starion Energy Inc.

Description: Notice of Non-Material Changes in Status of Starion Energy NY, Inc., et al.

Filed Date: 6/19/17.

Accession Number: 20170619-5173.

Comments Due: 5 p.m. ET 7/10/17.

Docket Numbers: ER17-1867-000.

Applicants: PacifiCorp.

Description: § 205(d) Rate Filing: BPA General Transfer Agreement (West) Rev 9 to be effective 1/1/2017.

Filed Date: 6/19/17.

Accession Number: 20170619-5157.

Comments Due: 5 p.m. ET 7/10/17.

Docket Numbers: ER17-1868-000.

Applicants: Southwest Power Pool, Inc.

Description: § 205(d) Rate Filing: 1977R9 Nemaha-Marshall Electric Cooperative NITSA and NOA to be effective 9/1/2017.

Filed Date: 6/20/17.

Accession Number: 20170620-5018.

Comments Due: 5 p.m. ET 7/11/17.

Take notice that the Commission received the following qualifying facility filings:

Docket Numbers: QF17-1116-000.

Applicants: Ultramar Inc.

Description: Form 556 of Ultramar Inc.

Filed Date: 6/19/17.

Accession Number: 20170619-5172.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 20, 2017.
Nathaniel J. Davis, Sr.,
Deputy Secretary.

[FR Doc. 2017-13266 Filed 6-23-17; 8:45 am]

BILLING CODE 6717-01-P